NATIONAL SCIENCE FOUNDATION

Notice of Intent To Seek Approval To Establish an Information Collection

AGENCY: National Science Foundation.

ACTION: Notice and request for comments.

SUMMARY: The National Science Foundation (NSF) is announcing plans to request approval for the collection of research and development data through the 2021 Merit Review Survey. In accordance with the requirement of the Paperwork Reduction Act of 1995, we are providing opportunity for public comment on this action. After obtaining and considering public comment, NSF will prepare the submission requesting that OMB approve clearance of this collection for no longer than 3 years.

DATES: Written comments on this notice must be received by December 14, 2020 to be assured of consideration. Comments received after that date will be considered to the extent practicable.

FOR FURTHER INFORMATION CONTACT: Suzanne H. Plimpton, Reports Clearance Officer, National Science Foundation, 2415 Eisenhower Avenue, Alexandria, VA 22314; 703-292-7556, or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title of Collection: Merit Review Survey—2021 Assessment of Applicant and Reviewer Experiences.

OMB Approval Number: 3145-NEW.

Expiration Date of Current Approval: Not applicable.

Type of Request: Intent to establish an information collection.

Abstract: The National Science Foundation (NSF) receives close to 50,000 proposals for funding annually, each of which undergoes a rigorous merit review process that is designed to ensure all proposals are fairly and thoroughly reviewed. The merit review process comprises three phases:

1. NSF announces funding opportunities on the NSF website and Grants.gov. Applicants prepare proposals in response to these opportunities and submit their proposals via FastLane (NSF's web-based system for proposal submission and review) or Grants.gov.

2. Proposals are assigned to the appropriate program(s) for review. Each proposal is assigned a Program Officer (PO) who selects external reviewers to evaluate the proposal according to the two NSF merit review criteria, Intellectual Merit and Broader Impacts. The Intellectual Merit criterion encompasses the potential to advance knowledge. The Broader Impacts criterion encompasses the potential to benefit society and contribute to the achievement of specific, desired societal outcomes. Programs may have additional review criteria particular to the goals and objectives of the program. The NSF guidelines for the selection of reviewers are designed to ensure selection of experts who can give program officers the proper information needed to make a recommendation in accordance with the merit review criteria. POs utilize the proposal's reference list, the investigator's suggested reviewers, and personal knowledge of individual reviewers to identify a pool of diverse experts with respect to type of organization represented, demographics, experience, and geographic balance, selecting appropriate reviewers with no apparent potential conflicts. Most proposals are reviewed by three to ten content expert reviewers who provide written feedback on the proposal through FastLane. POs synthesize reviewer comments and issue a recommendation to either decline or award funding based on reviewer feedback, panel discussions, the amount of available funding, and portfolio balances (i.e., the diversity of a portfolio, including factors such as award type, career stage, demographic characteristics, geographic location, institution type, research topic, laboratory funding status, and intellectual risk). The proposal and PO recommendation is then forwarded to the appropriate Division Director or other NSF official for additional review and action to either decline or award.

3. Each proposal recommended for award undergoes an administrative review conducted by NSF's Office of Budget, Finance, and Award Management. If it passes this review, the proposal is awarded.

Through this review process, NSF aims to identify the highest quality proposals to receive funding. The success of this process hinges on the assumptions that applicants will continue to submit to NSF their ideas for cutting-edge research and that experts in their respective fields will continue to provide high-quality reviews of those proposals.

The goal of this data collection is to assess the experiences of applicants and reviewers and their satisfaction with the NSF's merit review process. The data collection for which this OMB approval is requested includes a Web-based survey that will be administered to all applicants and reviewers who participated in the merit review process between fiscal years (FY) 2018 and FY 2020. The specific research objectives are to—

1. Examine applicant and reviewer perceptions of, and satisfaction with, the merit review process, including how it may vary by respondent gender or race.

2. Document the time burden the proposal submission and merit review process places on applicants and reviewers.

3. Examine applicant and reviewer perceptions of the quality of reviews and of proposals, including how it may vary by respondent demographics such as gender or race.

4. Describe the extent to which respondent familiarity with NSF's reviewer orientation pilot is associated with reported use of review strategies to mitigate bias.

5. Describe the extent to which the experience with proposal deadlines has affected applicants and reviewer burden and satisfaction.

6. Examine applicants' and reviewers' experiences receiving financial support as a student.

Data from the survey will be used to improve NSF's implementation of the merit review process.

Use of the information: The primary purpose of collecting this information is program evaluation. The data collected will enable NSF to assess the satisfaction, including perceptions of burden and quality, of applicants and reviewers who participate in the merit review process in order to monitor and improve the program and assess its implementation. Findings will inform continual improvement activities related to the merit review process.

Respondents: All applicants who have submitted proposals and reviewers who have reviewed NSF proposals between FY 2018 and 2020 will be invited to participate in the survey. This is estimated to be approximately 87,000 individuals.

Estimated number of respondents: It is estimated that there will be 26,000 respondents (representing an approximate 30 percent response rate).

Average time per reporting: The online survey is comprised primarily of close-ended questions and is designed to be completed by respondents in under 30 minutes.

Frequency: Eligible applicants and reviewers will be asked to the complete the 2021 Merit Review survey one time in fall 2021.

Estimate burden on the public: The collection occurs once for each respondent. The total estimate for this collection is 8,667 burden hours. The calculation is shown in table 1.

Table 1—Estimated Burden To Survey Merit Review Applicants and Reviewers
Category of respondent | Number of respondents | Participation time (minutes) | Burden (hours)
NSF applicants and reviewers | 26,000 | 20 | 8,667
Totals | 26,000 | 20 | 8,667

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: October 8, 2020.
Suzanne H. Plimpton,
Reports Clearance Officer, National Science Foundation.

[FR Doc. 2020-22755 Filed 10-14-20; 8:45 am]

BILLING CODE 7555-01-P